DEPARTMENT OF INTERIOR

Geological Survey

Patent, Trademark & Copyright Acts

AGENCY: Geological Survey

ACTION: Notice of prospective intent to award exclusive license.

SUMMARY: The United States Geological Survey (USGS) is contemplating the award of an exclusive license to: Besst, Inc., of Larkspur, CA, on U.S. Patent Nos. 6,131,451 and 6,164,127, both entitled “Well Flowmeter and Down-Hole Sample.”

INQUIRIES: If other parties are interested in similar activities, or have comments relating to the prospective award, please contact Neil Mark, USGS, 12201 Sunrise Valley Drive, MS 500, Reston, VA 20192, phone (703) 648-4344, fax (703) 648-4706, or email nmark@usgs.gov.

SUPPLEMENTARY INFORMATION: This notice is submitted to meet the requirements of 35 U.S.C. 208 et seq.

Dated: June 10, 2003.
Glenn G. Patterson,
Staff Assistant to Associate Director for Water.

[FR Doc. 03-19896 Filed 8-4-03; 8:45 am]

BILLING CODE 4310-Y7-M